ENVIRONMENTAL PROTECTION AGENCY

40 CFR Part 52

[EPA-R09-OAR-2011-0131, FRL-9317-9]

Approval and Promulgation of Air Quality Implementation Plans; State of California; Interstate Transport

AGENCY: Environmental Protection Agency (EPA).

ACTION: Final rule.

SUMMARY: EPA is approving the California Regional Haze Plan (“CRHP”), a revision to the California State Implementation Plan (“SIP”) addressing Clean Air Act (“CAA” or “Act”) requirements and EPA's rules for states to prevent and remedy future and existing anthropogenic impairment of visibility in mandatory Class I areas through a regional haze program. Regional haze is caused by emissions of air pollutants from many sources located over a wide geographic area. Also, EPA is approving certain portions of the CRHP and the “Interstate Transport State Implementation Plan (SIP) for 8-hour Ozone and PM2.5 to satisfy the Requirements of Clean Air Act section 110(a)(2)(D)(i) for the State of California” (“2007 Transport SIP”), submitted by California on November 16, 2007, as meeting the requirements of CAA Section 110(a)(2)(D)(i)(II) regarding interference with other states' measures to protect visibility for the 1997 8-hour ozone and 1997 particulate matter (PM2.5) National Ambient Air Quality Standards (NAAQS). EPA proposed to approve these SIP revisions on March 15, 2011 (76 FR 13944).

DATES: Effective Date: This rule is effective on July 14, 2011.

ADDRESSES: EPA has established docket number EPA-R09-OAR-2011-0131 for this action. Generally, documents in the docket for this action are available electronically at http://www.regulations.gov or in hard copy at EPA Region IX, 75 Hawthorne Street, San Francisco, California. While all documents in the docket are listed at http://www.regulations.gov, some information may be publicly available only at the hard copy location (e.g., copyrighted material, large maps, multi-volume reports), and some may not be available at either location (e.g., confidential business information (CBI)). To inspect the hard copy materials, please schedule an appointment during normal business hours with the contact listed in the FOR FURTHER INFORMATION CONTACT section.

FOR FURTHER INFORMATION CONTACT: Jerry Wamsley, U.S. Environmental Protection Agency, Region 9, Air Division, Planning Office, Air-2, 75 Hawthorne Street, San Francisco, CA 94105; via telephone at (415) 947-4111; or via electronic mail at wamsley.jerry@epa.gov.

SUPPLEMENTARY INFORMATION: Throughout this document, “we,” “us,” or “our,” refer to EPA.

Table of Contents

I. Background

A. The Regional Haze Problem

B. The CAA Requirements and EPA's Regional Haze Rule

C. Interstate Transport Pollution and Visibility Requirements

D. Our Proposed Action

II. Public Comments and EPA Responses

III. EPA Action

IV. Statutory and Executive Order Reviews

I. Background

A. The Regional Haze Problem

Regional haze is visibility impairment produced by many sources and activities located across a broad geographic area that emit fine particles (PM2.5) (e.g., sulfates, nitrates, organic carbon, elemental carbon, and soil dust), and their precursors (e.g., sulfur dioxide (SO2), oxides of nitrogen (NOX) and in some cases, ammonia (NH3) and volatile organic compounds (VOC)). Fine particle precursors react in the atmosphere to form fine particulate matter that impairs visibility by scattering and absorbing light, thereby reducing the clarity, color, and visible distance that one can see. Also, PM2.5 can cause serious health effects and mortality in humans and contributes to environmental impacts, such as acid deposition and eutrophication of water bodies.

Data from the existing visibility monitoring network, the “Interagency Monitoring of Protected Visual Environments” (IMPROVE) monitoring network, show that visibility impairment caused by air pollution occurs nearly all the time at most national park and wilderness areas. The average visual range in many Class I areas (i.e., national parks and memorial parks, wilderness areas, and international parks meeting certain size criteria) in the western United States is 100-150 kilometers, or about one-half to two-thirds of the visual range that would exist without anthropogenic air pollution.¹ In most of the eastern Class I areas of the United States, the average visual range is less than 30 kilometers, or about one-fifth of the visual range that would exist under estimated natural conditions. 64 FR 35715 (July 1, 1999).

¹ Visual range is the greatest distance, in kilometers or miles, at which a dark object can be viewed against the sky.

B. The CAA Requirements and EPA's Regional Haze Rule

In section 169A(a)(1) of the CAA Amendments of 1977, Congress created a program to protect visibility in the nation's national parks and wilderness areas.² This section of the CAA establishes as a national goal the “prevention of any future, and the remedying of any existing, impairment of visibility in mandatory Class I Federal areas which impairment results from manmade air pollution.” On December 2, 1980, EPA promulgated regulations to address visibility impairment in Class I areas that is “reasonably attributable” to a single source or small group of sources, i.e., “reasonably attributable visibility impairment” (RAVI) (45 FR 80084). These regulations represented the first phase in addressing visibility impairment. EPA deferred action on regional haze that emanates from a variety of sources until monitoring, modeling, and scientific knowledge about the relationships between pollutants and visibility impairment were improved.

² Areas designated as mandatory Class I Federal areas consist of national parks exceeding 6000 acres, wilderness areas and national memorial parks exceeding 5000 acres, and all international parks that were in existence on August 7, 1977. 42 U.S.C. 7472(a). In accordance with section 169A of the CAA and after consulting with the Department of Interior, EPA promulgated a list of 156 areas where visibility is identified as an important value. 44 FR 69122 (November 30, 1979). The extent of a mandatory Class I area includes subsequent changes in boundaries, such as park expansions. 42 U.S.C. 7472(a). Although states and Tribes may designate as Class I additional areas which they consider to have visibility as an important value, the requirements of the visibility program set forth in section 169A of the CAA apply only to “mandatory Class I Federal areas.” Each mandatory Class I Federal area is the responsibility of a “Federal Land Manager.” 42 U.S.C. 7602(i). When we use the term “Class I area” in this action, we mean a “mandatory Class I Federal area.”

With the CAA Amendments of 1990, Congress added section 169B to address regional haze issues. EPA promulgated a rule to address regional haze on July 1, 1999, the Regional Haze Rule (RHR) (64 FR 35713). The RHR revised the existing visibility regulations to integrate provisions addressing regional haze impairment and to establish a comprehensive visibility protection program for Class I areas. The requirements for regional haze, found at 40 CFR 51.308 and 51.309, are included in EPA's visibility protection regulations at 40 CFR 51.300-309. The requirement to submit a regional haze plan revision to the SIP applies to all 50 states, the District of Columbia and the Virgin Islands.³

³ Albuquerque/Bernalillo County in New Mexico must also submit a regional haze SIP to completely satisfy the requirements of section 110(a)(2)(D) of the CAA for the entire State of New Mexico under the New Mexico Air Quality Control Act (section 74-2-4).

For a more detailed discussion of the CAA and RHR requirements, please see sections II and III of our March 15, 2011 proposal (76 FR 13944). Our evaluation of the California Regional Haze Plan can be found in Section IV of the same proposal.

C. Interstate Transport Pollution and Visibility Requirements

On July 18, 1997, EPA promulgated new NAAQS for 8-hour ozone and for PM2.5 (62 FR 38856; 62 FR 38652). Section 110(a)(1) requires each state to submit a plan to address certain requirements for a new or revised NAAQS within three years after promulgation of such standards, or within such shorter time as EPA may prescribe. Section 110(a)(2) lists the elements that such new plan submissions must address, as applicable, including section 110(a)(2)(D)(i), which pertains to the interstate transport of certain emissions.

The “good neighbor” provisions in section 110(a)(2)(D)(i) of the CAA require each state to have a SIP that prohibits emissions that adversely affect other states in the ways contemplated in the statute. Section 110(a)(2)(D)(i) contains four distinct requirements related to the impacts of interstate transport. The SIP must contain adequate provisions prohibiting sources in the state from emitting air pollutants in amounts which will: (1) Contribute significantly to nonattainment of the NAAQS in any other state; (2) interfere with maintenance of the NAAQS in any other state; (3) interfere with provisions to prevent significant deterioration of air quality in any other state; or, (4) interfere with efforts to protect visibility in any other state.

The regional haze program, as reflected in the RHR, recognizes the importance of addressing the long-range transport of pollutants for visibility and encourages states to work together to develop plans to address haze. The regulations explicitly require each state to address its “share” of the emission reductions needed to meet the reasonable progress goals for neighboring Class I areas. Working together through a regional planning process, states are required to address an agreed upon share of their contribution to visibility impairment in the Class I areas of their neighbors. 40 CFR 51.308(d)(3)(ii). Given these requirements, we anticipate that regional haze SIPs will contain measures that will achieve these emissions reductions, and that these measures will meet the requirements of section 110(a)(2)(D)(i).

California's 2007 Transport SIP states that the Regional Haze SIP would address interstate regional haze impacts. We interpreted this to mean that California intended for the Regional Haze Plan to address the interstate visibility requirement of section 110(a)(2)(D)(i) for the 1997 8-hour ozone and 1997 PM2.5 NAAQS. Accordingly, our evaluation of the 2007 Transport SIP and whether it meets these CAA section 110(a)(2)(D)(i) visibility requirements relied on our evaluation of relevant information from the CRHP.

For a more detailed discussion of the requirements of CAA section 110(a)(2)(D)(i) and our evaluation of how the 2007 Transport SIP and relevant portions of the CRHP meet these requirements, please see sections II.D and V of our March 15, 2011 proposal (76 FR 13944).

D. Our Proposed Action

On March 15, 2011, EPA proposed to approve: (i) The California Regional Haze Plan (CRHP) as meeting the relevant requirements of CAA section 169B and the Regional Haze Rule; and (ii) the 2007 Transport SIP and certain portions of the CRHP as meeting the requirements of CAA section 110(a)(2)(D)(i)(II) regarding interference with other states' measures to protect visibility for the 1997 8-hour ozone and 1997 PM2.5 NAAQS (76 FR 13944).

Regarding our proposed approval of the CRHP, we proposed to find that California met the following Regional Haze Rule requirements: The State established baseline visibility conditions and reasonable progress goals for each of its Class I areas; the State developed a long-term strategy with enforceable measures ensuring reasonable progress towards meeting the reasonable progress goals for the first ten-year planning period, through 2018; the State adequately addressed the application of Best Available Retrofit Technology to specific stationary sources; the State has an adequate regional haze monitoring strategy; the State provided for consultation and coordination with Federal land managers in producing its regional haze plan; and, the State provided for the regional haze plan's future revisions.

Regarding our proposed approval of California's 2007 Transport SIP, we proposed to find that the following specific elements of the CRHP satisfied the CAA Section 110(a)(2)(D)(i)(II) requirement to prohibit emissions that will interfere with measures to protect visibility in another state for the 1997 8-hour ozone and 1997 PM2.5 NAAQS: Chapter 3 (Emissions Inventory), chapter 4 (California 2018 Progress Strategy), and chapter 8 (Consultation).

For the portion of today's final action related to the 2007 Transport SIP, we are taking final action only with regard to the section 110(a)(2)(D)(i)(II) requirement that the SIP must contain adequate provisions prohibiting any source or other type of emissions activity in California from emitting pollutants that will interfere with another state's measures to protect visibility. EPA intends to act in separate rulemakings on other portions of California's 2007 Transport SIP that address the remaining elements of CAA section 110(a)(2)(D)(i) for the 1997 8-hour ozone and PM2.5 NAAQS.⁴

⁴ The other elements of CAA section 110(a)(2)(D)(i) require that the California SIP contain adequate provisions prohibiting emission sources within the State from emitting any air pollutant in amounts which will: (a) Contribute significantly to nonattainment of the 1997 8-hour ozone and PM2.5 NAAQS in any other State; (b) interfere with maintenance of these standards by any other State; and, (c) interfere with any other State's measures required under Part C of the CAA to prevent significant deterioration of air quality. On March 17, 2011, we proposed to approve California's 2007 Transport SIP as meeting the CAA section 110(a)(2)(D)(I) requirements that the California SIP contain adequate provisions to ensure that emissions from California do not significantly contribute to nonattainment of, or interfere with maintenance of, the 1997 8-hour ozone and 1997 PM2.5 standards in other states (76 FR 14616).

We proposed to approve the CRHP and the 2007 Transport SIP because we determined that they complied with the relevant CAA requirements. Our proposed action provides more information about the relevant CAA requirements, EPA guidance, the state's submittals, and our review and evaluation of these SIP revisions.

II. Public Comments and EPA Responses

EPA's proposed action provided a 30-day public comment period. We received no comments.

III. EPA Action

Under section 110(k)(3) of the CAA, EPA is fully approving the California Regional Haze Plan as satisfying all of the relevant requirements of Section 169B and the Regional Haze Rule. Specifically, we find that California has met the following Regional Haze Rule requirements: The State established baseline visibility conditions and reasonable progress goals for each of its Class I areas; the State developed a long-term strategy with enforceable measures ensuring reasonable progress towards meeting the reasonable progress goals for the first ten-year planning period, through 2018; the State has adequately addressed the application of Best Available Retrofit Technology to specific stationary sources; the State has an adequate regional haze monitoring strategy; the State provided for consultation and coordination with Federal land managers in producing its regional haze plan; and, the State provided for the regional haze plan's future revisions.

In addition, under section 110(k)(3) of the CAA, we are fully approving the 2007 Transport SIP and the following specific elements of the CRHP as satisfying the CAA Section 110(a)(2)(D)(i)(II) requirement to prohibit emissions that will interfere with measures to protect visibility in another state for the 1997 8-hour ozone and 1997 PM2.5 NAAQS: Chapter 3 (Emissions Inventory), chapter 4 (California 2018 Progress Strategy), and, chapter 8 (Consultation).

IV. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 15, 2011. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen dioxide, Particulate matter, Reporting and recordkeeping requirements, Sulfur oxides, Visibility, Volatile organic compounds.

Dated: May 9, 2011.
Jared Blumenfeld,
Regional Administrator, Region IX.

Part 52, Chapter I, Title 40 of the Code of Federal Regulations is amended as follows:

PART 52 [AMENDED]

1. The authority citation for Part 52 continues to read as follows:

Authority: 42 U.S.C. 7401 et seq.

Subpart F—California

2. Section 52.220 is amended by adding paragraphs (c)(386) and (c)(387) to read as follows:

§ 52.220 Identification of plan.

* * * * *

(c) * * *

(386) The following plan was submitted on November 16, 2007, by the Governor's Designee.

(i) [Reserved].

(ii) Additional materials.

(A) California Air Resources Board (CARB).

(1) CARB Resolution 07-28, dated September 27, 2007, adopting the “2007 State Implementation Plan for the 1997 ozone and PM2.5 National Ambient Air Quality Standards” (“2007 State Strategy”).

(2) “Interstate Transport State Implementation Plan (SIP) for the 1997 8-hour Ozone Standard and PM2.5 to satisfy the Requirements of Clean Air Act section 110(a)(2)(D)(i) for the State of California (September 21, 2007),” as modified by Attachment A and submitted as Appendix C to the 2007 State Strategy (“2007 Transport SIP”), at page 5 (“Evaluation of Interference with Other States' Measures Required to Meet Regional Haze and Visibility SIP Requirements”).

(387) The following plan was submitted on March 16, 2009, by the Governor's Designee.

(i) [Reserved].

(ii) Additional materials.

(A) California Air Resources Board (CARB).

(1) CARB Resolution 09-4, dated January 22, 2009, adopting the “California Regional Haze Plan”.

(2) The “California Regional Haze Plan”, adopted on January 22, 2009, as amended and supplemented on September 8, 2009 in a “letter from James N. Goldstene, CARB to Laura Yoshii, United States Environmental Protection Agency”, and as amended and supplemented on June 9, 2010 in a “letter from James N. Goldstene, CARB to Jared Blumenfeld, United States Environmental Protection Agency”.

* * * * *

3. Section 52.281 is amended by adding paragraph (f) to read as follows:

§ 52.281 Visibility protection.

* * * * *

(f) Approval. On March 16, 2009, the California Air Resources Board submitted the “California Regional Haze Plan” (“CRHP”). The CRHP, as amended and supplemented on September 8, 2009 and June 9, 2010, meets the requirements of Clean Air Act section 169B and the Regional Haze Rule in 40 CFR 51.308.

4. Part 52 is amended by adding a new § 52.283 to read as follows:

§ 52.283 Interstate Transport.

(a) Approval. On November 16, 2007, the California Air Resources Board submitted the “Interstate Transport State Implementation Plan (SIP) for the 1997 8-hour Ozone Standard and PM2.5 to satisfy the Requirements of Clean Air Act section 110(a)(2)(D)(i) for the State of California (September 21, 2007)” (“2007 Transport SIP”). The 2007 Transport SIP and the additional plan elements listed below meet the following specific requirements of Clean Air Act section 110(a)(2)(D)(i) for the 1997 8-hour ozone and 1997 PM2.5 NAAQS (“1997 standards”).

(1) The requirements of section 110(a)(2)(D)(i)(II) regarding interference with other states' measures to protect visibility for the 1997 standards are met by chapter 3 (Emissions Inventory), chapter 4 (California 2018 Progress Strategy), and chapter 8 (Consultation) of the “California Regional Haze Plan,” adopted January 22, 2009.

(2) [Reserved]

(b) [Reserved]

[FR Doc. 2011-14479 Filed 6-13-11; 8:45 am]

BILLING CODE 6560-50-P